DEPARTMENT OF TRANSPORTATION

Federal Aviation Administration

14 CFR Part 71

[Docket No. FAA-2005-20322; Airspace Docket No. 05-ANM-1]

RIN 2120-AA66

Establishment and Revision of Area Navigation (RNAV) Routes; Western United States

AGENCY: Federal Aviation Administration (FAA), DOT.

ACTION: Final rule; correction.

SUMMARY: This action corrects errors in the legal description of Area Navigation (RNAV) Routes listed in a final rule published in the Federal Register on October 14, 2005 (70 FR 59990), Airspace Docket No. 05-ANM-1.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On October 14, 2005, a final rule was published in the Federal Register (70 FR 59990), Airspace Docket No. 05-ANM-1. This rule established three RNAV routes (Q-15, Q-2, Q-4, and revised Q-13) in the Western United States. In all four routes, points that were listed in the route descriptions as “waypoint” (WP) are actually existing published navigation “fixes.” Therefore, the descriptions are corrected by removing “WP” and substituting “Fix.” In addition, the title for Q-13 was reversed. This action corrects those errors.

Correction to Final Rule

Accordingly, pursuant to the authority delegated to me, the legal description for Q-13, Q-15, Q-2 and Q-4, as published in the Federal Register on October 14, 2005 (70 FR 59990), Airspace Docket No. 05-ANM-1, are corrected as follows:

PART 71—[AMENDED]

§ 71.1 [Amended]

* * * * *

Q-13 PRFUM to PAWLI [Corrected]
PRFUM | Fix | (Lat. 35°30′24″ N., long. 113°56′35″ W.)
CENIT | WP | (Lat. 36°41′02″ N., long. 116°26′31″ W.)
TUMBE | WP | (Lat. 36°48′20″ N., long. 116°40′03″ W.)
TACUS | WP | (Lat. 37°05′16″ N., long. 116°54′12″ W.)
WODIN | WP | (Lat. 37°19′20″ N., long. 117°05′25″ W.)
LEAHI | WP | (Lat. 37°28′58″ N., long. 117°14′57″ W.)
LOMIA | WP | (Lat. 39°13′12″ N., long. 119°06′23″ W.)
RUFUS | WP | (Lat. 41°26′00″ N., long. 120°00′00″ W.)
PAWLI | WP | (Lat. 43°10′48″ N., long. 120°55′50″ W.)
* * * * * * *
Q-15 CHILY to LOMIA [Corrected]
CHILY | Fix | (Lat. 34°42′49″ N., long. 112°45′42″ W.)
DOVEE | Fix | (Lat. 35°26′51″ N., long. 114°48′01″ W.)
BIKKR | WP | (Lat. 36°34′00″ N., long. 116°45′00″ W.)
DOBNE | WP | (Lat. 37°14′23″ N., long. 117°15′04″ W.)
RUSME | WP | (Lat. 37°29′39″ N., long. 117°31′12″ W.)
LOMIA | WP | (Lat. 39°13′12″ N., long. 119°06′23″ W.)
* * * * * * *
Q-2 BOILE to EWM [Corrected]
BOILE | Fix | (Lat. 34°25′21″ N., long. 118°01′33″ W.)
HEDVI | WP | (Lat. 33°32′23″ N., long. 114°28′14″ W.)
HOBOL | WP | (Lat. 33°11′30″ N., long. 112°20′00″ W.)
ITUCO | WP | (Lat. 32°26′30″ N., long. 109°46′26″ W.)
EWM | VORTAC | (Lat. 31°57′06″ N., long. 106°16′21″ W.)
* * * * * * *
Q-4 BOILE to ELP [Corrected]
BOILE | Fix | (Lat. 34°25′21″ N., long. 118°01′33″ W.)
HEDVI | WP | (Lat. 33°32′23″ N., long. 114°28′14″ W.)
SCOLE | Fix | (Lat. 33°27′46″ N., long. 114°04′54″ W.)
SPTFR | WP | (Lat. 33°23′49″ N., long. 113°43′29″ W.)
ZEBOL | WP | (Lat. 33°03′30″ N., long. 112°31′00″ W.)
SKTTR | WP | (Lat. 32°17′38″ N., long. 109°50′44″ W.)
ELP | VORTAC | (Lat. 31°48′57″ N., long. 106°16′55″ W.)
* * * * * * *

Issued in Washington, DC, on October 26, 2005.
Edith V. Parish,
Acting Manager, Airspace and Rules.

[FR Doc. 05-21745 Filed 10-31-05; 8:45 am]

BILLING CODE 4910-13-P